NATIONAL SCIENCE FOUNDATION

Request to Establish an Information Collection; Comment Request

AGENCY: National Science Foundation.

ACTION: Notice.

SUMMARY: The Office of Management and Budget (OMB) issued government-wide guidelines under section 515 of the Treasury and General Government Appropriations Act for Fiscal Year 2001 (Pub. L. 106-554) to ensure and maximize the quality, objectively, utility and integrity of information disseminated by Federal agencies. OMB's guidelines were published in the Federal Register on September 28, 2001 (66 FR 49718), and updated on January 3, 2002 (67 FR 369). A supplemental version of the guidelines was published in the Federal Register February 22, 2002 (67 FR 8452). Each Federal agency is responsible for issuing its own section 515 guidelines. As a result, The National Science Foundation (NSF) has developed corresponding information quality guidelines (the notice for which can be found at: 67 FR 21778). The full draft guidelines are found at the National Science Foundation's website: http://www.nsf.gov/home/pubinfo/infoqual.htm.

As part of this effort, NSF has developed a form to assist the public in reviewing NSF's information products. The form also may be found at the website above.

DATES: Written comments on this notice must be received by August 6, 2002 to be assured of consideration. Comments received after that date will be considered to the extent practicable.

COMMENTS: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

FOR FURTHER INFORMATION CONTACT: Suzanne H. Plimpton, Reports Clearance Officer, National Science Foundation, 4201 Wilson Boulevard, Suite 295, Arlington, Virginia 22230; telephone 703-292-7556; or send email to splimpto@nsf.gov. Individuals who use a telecommunications device for the deaf (TDD) may call the Federal Information Relay Service (FIRS) at 1-800-877-8339 between 8 a.m. and 8 p.m., Eastern time, Monday through Friday. You also may obtain a copy of the data collection instrument and instructions from Ms. Plimpton.

SUPPLEMENTARY INFORMATION: Title of Collection: Request for Review and Correction of Information under Section 515.

OMB Number: 3145-NEW.

Expiration Date of Approval: Not applicable.

Type of Request: Intent to seek approval to carry out a new information collection.

Abstract: In accordance with section 515 of Public Law 106-554, codified at 44 U.S.C. 3516, note, the National Science Foundation (NSF) has developed mechanisms to allow affected persons to seek and obtain correction of information maintained and disseminated by this agency.

To seek a correction under section 515 of information maintained or disseminated by the National Science Foundation, individuals should follow the procedure described at http://www.nsf.gov/locationtobedetermined.

Estimate of Burden: 15 minutes.

Respondents: Individuals.

Estimated Number of Responses: 50.

Estimated Total Annual Burden on Respondents: 12.5 hours, based on 15 minutes per respondent.

Frequency of Responses: On occasion.

Dated: June 3, 2002.
Suzanne H. Plimpton,
Reports Clearance Officer, National Science Foundation.

[FR Doc. 02-14270 Filed 6-6-02; 8:45 am]

BILLING CODE 7555-01-M